DEPARTMENT OF THE INTERIOR

Bureau of Land Management

[AK-040-06-1610-DP]

Notice of Extension of the Public Comment Period for the Ring of Fire Draft Resource Management Plan/Environmental Impact Statement

AGENCY: Bureau of Land Management, Interior.

ACTION: Notice of Extension of the Public Comment Period for the Ring of Fire Draft Resource Management Plan/Environmental Impact Statement.

SUMMARY: The Bureau of Land Management (BLM) announces an extension of the public comment period on the Ring of Fire Draft Resource Management Plan/Environmental Impact Statement (RMP/EIS). The original notice issued September 30, 2005, provided for a comment period to end on December 29, 2005. BLM is extending the comment period until January 30, 2006.

DATES: Written comments on issues relating to the future land use, planning, and management of the Ring of Fire Planning Area must be submitted or postmarked no later than January 30, 2006.

ADDRESSES: Comments on the document should be addressed to Robert Lloyd, Project Manager, Ring of Fire RMP/EIS, Bureau of Land Management, Anchorage Field Office (040), 6881 Abbott Loop Road, Anchorage, Alaska 99507. Comments can also be submitted by accessing the e-mail box developed for this project at akrofrmp@blm.gov.

FOR FURTHER INFORMATION CONTACT: Robert Lloyd, (907) 267-1214, or by mail at the Anchorage Field Office, 6881 Abbott Loop Road, Anchorage, Alaska 99507.

SUPPLEMENTARY INFORMATION: The original Notice of Availability was published September 30, 2006, and provided for comments on the Ring of Fire Draft RMP/EIS to be received through December 29, 2005. During the public comment period it was discovered that the maps depicting the proposed Neacola Mountains Area of Critical Environmental Concern contained errors. Trustees for Alaska requested an extension of the comment period in order to further review the recommendation. BLM has decided to act in accordance with this request, therefore, comments on the Ring of Fire Draft RMP/EIS will now be accepted through January 30, 2006.

Dated: January 6, 2006.
Henri R. Bisson,
State Director.

[FR Doc. E6-774 Filed 1-23-06; 8:45 am]

BILLING CODE 4310-JA-P